DEPARTMENT OF THE INTERIOR

National Park Service

[NPS-WASO-NAGPRA-NPS0039816; PPWOCRADN0-PCU00RP14.R50000]

Notice of Proposed Transfer or Reinterment: No Man's Land Historical Society, Goodwell, OK

AGENCY: National Park Service, Interior.

ACTION: Notice.

SUMMARY: In accordance with the Native American Graves Protection and Repatriation Act (NAGPRA), the No Man's Land Historical Society proposes to transfer human remains and associated funerary objects listed in a notice of inventory completion published in the Federal Register on January 16, 2025.

DATES: Repatriation, transfer, or reinterment of the human remains and associated funerary objects in this notice may occur on or after May 2, 2025.

FOR FURTHER INFORMATION CONTACT: Sue Weissinger, No Man's Land Historical Society, telephone 580-349 (2670), email nmlhs@outlook.com. Individuals who are deaf, deafblind, hard of hearing, or have a speech disability may dial 711 (TTY, TDD, or TeleBraille) to access telecommunications relay services. Individuals outside the United States should use the relay services offered within their country to make international calls to the point-of-contact in the United States.

SUPPLEMENTARY INFORMATION: This notice is published as part of the National Park Service's administrative responsibilities under NAGPRA. The determinations in this notice are the sole responsibility of the No Man's Land Historical Society, and additional information on the determinations in this notice, including the results of consultation, can be found in its inventory or related records. The National Park Service is not responsible for the determinations in this notice.

Abstract of Information Available

This notice follows publication of a notice of inventory completion in the Federal Register (90 FR 4795-4796, January 16, 2025). Human remains representing, at least, one individuals have been identified. The six associated funerary objects are five harrell points and one stone knife blade. The individual was excavated by an unknown party on the Sprowles Ranch near Cheyenne, Oklahoma in Roger Mills County and loaned to the No

Man's Land Museum on January 22, 1965. It was in a cairn as evidenced by two photographs that were loaned.

Human remains representing, at least, one individual have been identified. No associated funerary objects are present. The individual adult was removed from a site near Felt, Cimarron County, Oklahoma and donated on May 4, 1974.

Human remains representing, at least, one individual have been identified. The one associated funerary object is horse bones. The individual was excavated one mile west and one-half mile south of Four Corners on Highway 64 in Texas County, Oklahoma. It was loaned to the No Man's Land Museum on August 10, 1936.

It is unknown if harmful substances were used.

Consultation

Invitations to consult were sent to the Apache Tribe of Oklahoma; Cheyenne and Arapaho Tribes, Oklahoma; Comanche Nation, Oklahoma; The Osage Nation; and the Wichita and Affiliated Tribes (Wichita, Keechi, Waco, & Tawakonie), Oklahoma. The Cheyenne and Arapaho Tribes, Oklahoma; Comanche Nation, Oklahoma; The Osage Nation; and the Wichita and Affiliated Tribes (Wichita, Keechi, Waco, & Tawakonie), Oklahoma agreed to consult. The Quapaw Nation declined to comment.

Cultural Affiliation

The following types of information about the cultural affiliation of the human remains and associated funerary objects in this notice are available: anthropological, archaeological, geographical, and expert opinion. The information, including the results of consultation, identified:

1. No earlier group connected to the human remains or associated funerary objects.

2. No Indian Tribe or Native Hawaiian organization connected to the human remains or associated funerary objects.

3. No relationship of shared group identity between the earlier group and the Indian Tribe or Native Hawaiian organization that can be reasonably traced through time.

Determinations

The No Man's Land Historical Society has determined that:

• The human remains described in this notice represent the physical remains of three individuals of Native American ancestry.

• The seven objects described in this notice are reasonably believed to have been placed intentionally with or near individual human remains at the time of death or later as part of the death rite or ceremony.

• No known lineal descendant who can trace ancestry to the human remains and associated funerary objects in this notice has been identified.

• No Indian Tribe or Native Hawaiian organization with cultural affiliation to the human remains and associated funerary objects in this notice has been clearly or reasonably identified.

• The Cheyenne and Arapaho Tribes, Oklahoma have requested transfer of the human remains and associated funerary objects described in this notice.

Requests for Repatriation

Written requests for repatriation of the human remains and associated funerary objects in this notice must be sent to the authorized representative identified in this notice under FOR FURTHER INFORMATION CONTACT. Requests for repatriation may be submitted by any lineal descendant, Indian Tribe, or Native Hawaiian organization who shows, by a preponderance of the evidence, that the requestor is a lineal descendant or an Indian Tribe or Native Hawaiian organization with cultural affiliation.

Repatriation, transfer, or reinterment of the human remains and associated funerary objects described in this notice may occur on or after May 2, 2025. If requests for repatriation are received, the No Man's Land Museum must evaluate the requests and respond in writing to the requestors. The No Man's Land Museum is responsible for sending a copy of this notice to any consulting lineal descendant, Indian Tribe, or Native Hawaiian organization.

Authority: Native American Graves Protection and Repatriation Act, 25 U.S.C. 3003, and the implementing regulations, 43 CFR 10.10.

Dated: March 21, 2025.
Melanie O'Brien,
Manager, National NAGPRA Program.

[FR Doc. 2025-05611 Filed 4-1-25; 8:45 am]

BILLING CODE 4312-52-P